DEPARTMENT OF HEALTH AND HUMAN SERVICES

Centers for Disease Control and Prevention

[60-Day-13-13EP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Million Hearts™ Hypertension Control Challenge—New—National Center for Chronic Disease Prevention and Health Promotion (NCCDPHP), Centers for Disease Control and Prevention (CDC).

Background and Brief Description

Cardiovascular disease is a leading cause of death for men and women in the United States, among the most costly health problems facing our nation today, and among the most preventable. Heart disease and stroke also contribute significantly to disability. High blood pressure, also known as hypertension, is one of the leading causes of heart disease and stroke. Currently, about 67 million American adults have high blood pressure but fewer than half (46%) have adequately controlled blood pressure. The costs of hypertension and its associated diseases are estimated at $156 billion annually, including the cost of medical care and the cost of lost productivity.

In September 2011, CDC launched the Million Hearts™ initiative with the goal of preventing one million heart attacks and strokes by 2017. In order to achieve this goal, at least 10 million more Americans must have their blood pressure under control. Toward this end, Million Hearts™ is promoting clinical practices that are effective in increasing blood pressure control among patient populations. There is scientific evidence that provides general guidance on the types of system-based changes to clinical practice that can improve patient blood pressure control, but more information is needed to fully understand implementation practices so that they can be shared and promoted.

In May 2013, CDC proposes to launch the Million Hearts™ Hypertension Control Challenge to identify clinical practices and health systems that have been successful in achieving high rates of hypertension control and to develop models for dissemination. The most successful clinical practices or health plans will be recognized as Million Hearts™ Hypertension Control Champions and will receive a cash award of $5,000-$15,000. Recognition will be provided to two groups of practices: Those that represent fewer than 50,000 covered lives, and those that represent 50,000 or more covered lives. Providers eligible to apply for recognition include single practice providers, group practice providers, and healthcare systems. The Challenge is authorized by Public Law 111-358, the America Creating Opportunities to Meaningfully Promote Excellence in Technology, Education and Science Reauthorization Act of 2010 (COMPETES Act).

CDC requests OMB approval to collect the information needed to identify, qualify, and rank applicants for recognition through the Million Hearts™ Hypertension Control Challenge. Interested providers or clinical programs may voluntarily self-nominate their practice or healthcare system by completing a web-based nomination form located on the Challenge.gov web portal. The nomination process will include submission of the minimum amount of data needed to provide evidence of clinical success in achieving hypertension control, including: (a) Two point-in-time measures of the clinical hypertension control rate for the patient population, (b) the size of the clinic population served, and (c) a description of the sustainable systems adopted to achieve hypertension control rates. The estimated burden for completing the nomination form is 30 minutes.

CDC scientists or contractors will assign a preliminary score to each submitted nomination form. Those with the highest preliminary scores will be further reviewed by a CDC-sponsored panel of three to five experts in hypertension control. The panel will provide CDC with a ranked list of nominees recommended for recognition through the Million Hearts™ Hypertension Control Challenge.

Finalists will be asked to participate in a data verification process so that CDC can verify the information submitted on the nomination form. The estimated burden to the respondent is one hour, which includes time to review the nomination form with a reviewer or abstractor in person or by phone, and to describe to the reviewer how information was obtained from electronic records, chart reviews, or other sources. Finalists may be eliminated based on the results of data verification.

Each remaining finalist, or Champion, will be asked to participate in a semi-structured interview. The interview will provide detailed information about the strategies employed by the practice or health system to achieve exemplary rates of hypertension control, including barriers and facilitators for those strategies. The interview will focus on systems and processes and should take no preparation time by the finalist. The estimated burden to the respondent is two hours, which includes time to review the interview protocol with the interviewer, respond to the interview questions, and review qualitative data.

OMB approval is requested for three years. On an annual basis, CDC estimates that information will be collected from 1,750 nominees using the nomination form, at most 30 data verification forms, and at most 30 semi-structured interviews that include review of qualitative data. The number of Champions recognized in the first year of the challenge may be less than 30. As the Challenge becomes known, the number of recognized Champions may increase to a maximum of 30.

The overall goal of the Million Hearts™ initiative is to improve the quality of care delivered to hypertensive patients. CDC will use the information collected through the Million Hearts™ Hypertension Control Challenge to increase widespread attention to hypertension at the clinical practice level, improve understanding of successful implementation strategies at the health system level, bring prestige to organizations that invest in hypertension control, and motivate individual practices to strengthen their hypertension control efforts. Although some providers and healthcare systems routinely provide data on hypertension control rates to entities such as quality improvement committees, these entities do not collect or disseminate information about the clinic processes used to achieve hypertension control. Information collected through the Million Hearts™ Hypertension Control Challenge will link success in clinical outcomes of hypertension control with information about procedures that can be used to achieve similar favorable outcomes. The Challenge will allow interested providers and health care systems to replicate successful the strategies.

Participation is voluntary and there are no costs to respondents other than their time.

Estimated Annualized Burden Hours
Type of respondent | Form name | Number of respondents | Number of responses per respondent | Avg. burden per response (in hr) | Total burden (in hr)
Physicians (Single or Group Practices) | Million Hearts™ Hypertension Control Champion Nomination form | 1,750 | 1 | .5 | 875
Finalists | Data Verification Form | 30 | 1 | 1 | 30
Selected Champion | Semi-structured Interview | 30 | 1 | 2 | 60
Total |  |  |  |  | 965

Dated: December 13, 2012.
Ron A. Otten,
Director, Office of Scientific Integrity (OSI), Office of the Associate Director for Science (OADS), Office of the Director, Centers for Disease Control and Prevention.

[FR Doc. 2012-30564 Filed 12-18-12; 8:45 am]

BILLING CODE 4163-18-P